DEPARTMENT OF HOUSING AND URBAN DEVELOPMENT

[Docket No. FR-7050-N-50; OMB Control No. 2502-0623]

30-Day Notice of Proposed Information Collection: Equity in Housing Counseling Survey

AGENCY: Office of Policy Development and Research, Chief Data Officer, HUD.

ACTION: Notice.

SUMMARY: HUD is seeking approval from the Office of Management and Budget (OMB) for the information collection described below. In accordance with the Paperwork Reduction Act, HUD is requesting comment from all interested parties on the proposed collection of information. The purpose of this notice is to allow for an additional 30 days of public comment.

DATES: Comments Due Date: October 26, 2022.

ADDRESSES: Interested persons are invited to submit comments regarding this proposal. Written comments and recommendations for the proposed information collection should be sent within 30 days of publication of this notice to OIRA_submission@omb.eop.gov or www.reginfo.gov/public/do/PRAMain. Find this particular information collection by selecting “Currently under 30-day Review—Open for Public Comments” or by using the search function.

FOR FURTHER INFORMATION CONTACT: Colette Pollard, Reports Management Officer, Department of Housing and Urban Development, 451 7th Street SW, Washington, DC 20410; email Colette Pollard at Colette.Pollard@hud.gov or telephone 202-402-3400 (this is not a toll-free number). Persons with hearing or speech impairments may access this number through TTY by calling the Federal Relay Service at 800-877-8339 (this is a toll-free number).

Copies of available documents submitted to OMB may be obtained from Ms. Pollard.

SUPPLEMENTARY INFORMATION: This notice informs the public that HUD is seeking approval from OMB for the information collection described in Section A.

The Federal Register notice that solicited public comment on the information collection for a period of 60 days was published on May 6, 2022, at 87 FR 27177.

A. Overview of Information Collection

Title of Information Collection: Equity in Housing Counseling Survey.

OMB Approval Number: 2502-0623.

OMB Expiration Date: September 30, 2022.

Type of Request: Revision of a currently approved collection.

Form Number: None.

Description of the need for the information and proposed use: The purpose of the survey and the listening session is to collect information from HUD Participating Housing Counseling agencies that will be used to identify and develop innovative programming and best practices for the Department's Housing Counselling Program under Section 106 of the Housing and Community Development Act of 1974.

Respondents: Not-For-Profit Institutions.

Estimated Number of Respondents: 1,244.

Estimated Number of Responses: 1,244.

Frequency of Response: 1.

Average Hours per Response: 3.25.

Information collection/affected public | Form name/form No. collection tool | Number of respondents | Frequency of response | Responses per year | Average burden hours per response | Annual burden hours | Hourly cost per response (hourly wage rate) | Total annual respondent cost
Not for-profits Institutions | Equity in Housing Counseling Survey | 1,219 | 1 | 1,219 | .25 | 304.75 | $50.71 | $15,453.87
Not for-profits Institutions | Equity in Housing Counseling Listening Sessions | 25 | 1 | 25 | 3 | 75 | 50.71 | 3803.25
Totals |  | 1,244 |  | 1,244 |  | 380 |  | 19,257.12

Total Estimated Burden: 380 hours.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond, including through the use of appropriate automated collection techniques or other forms of information technology, e.g., permitting electronic submission of responses.

(5) ways to minimize the burden of the collection of information on those who are to respond, including the use of automated collection techniques or other forms of information technology.

HUD encourages interested parties to submit comment in response to these questions.

C. Authority

Section 3507 of the Paperwork Reduction Act of 1995, 44 U.S.C. 3507.

Colette Pollard,
Department Reports Management Officer, Office of Policy Development and Research, Chief Data Officer.

[FR Doc. 2022-20790 Filed 9-23-22; 8:45 am]

BILLING CODE 4210-67-P